UNIFIED CARRIER REGISTRATION PLAN

Sunshine Act Meetings

TIME AND DATE: July 25, 2024, 12 p.m. to 3 p.m., eastern time.

PLACE: This meeting will be accessible via conference call and via Zoom Meeting and Screenshare. Any interested person may call (i) 1-929-205-6099 (US Toll) or 1-669-900-6833 (US Toll), Meeting ID: 998 8137 9916, to listen and participate in this meeting. The website to participate via Zoom Meeting and Screenshare is https://kellen.zoom.us/meeting/register/tJ0lf-irqTIjG9JzqnTfP8kysVW_JIDgYnoy.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—UCR Audit Subcommittee Chair

The UCR Audit Subcommittee Chair will welcome attendees, call the meeting to order, call roll for the Audit Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Audit Subcommittee Chair

For Discussion and Possible Subcommittee Action

The agenda will be reviewed, and the Subcommittee will consider adoption.

Ground Rules

Subcommittee action only to be taken in designated areas on the agenda.

IV. Review and Approval of Subcommittee Minutes From the March 14, 2024 Meeting—UCR Audit Subcommittee Chair

For Discussion and Possible Subcommittee Action

Draft minutes from the March 14, 2024, Subcommittee meeting via teleconference will be reviewed. The Subcommittee will consider action to approve.

V. Discuss Options To Update the Current Evaluation Process for the State Annual Audit Report—UCR Audit Subcommittee Chair, UCR Audit Subcommittee Vice-Chair

For Discussion and Possible Subcommittee Action

The Chair will lead a discussion on options to replace the current evaluation process for the State Annual Audit Report.

Currently States Must Comply With at Least Three of the Six Compliance Initiatives

a. Previous year or reporting year FARs closed percentage—at least 80%.

b. Current year FARs closed percentage—at least 60%.

c. Previous year or reporting year Tier 5&6 Retreat Audits closed—at least 60%.

d. Previous year or reporting year registration percentage for MCs—at least 85%.

e. Previous year or reporting year, unregistered MCs Bracket 5 & 6 MCs—100%.

f. Previous year or reporting year, registration percentage for Brokers—at least 60%.

Consider Removing the Following Compliance Initiatives From the Annual Audit Report Evaluation Process

g. Previous year or reporting year FARs closed percentage—at least 80%.

i. Justification, most FARs are closed shortly after being assigned.

h. Previous year or reporting year Registration percentage for MCs—at least 85%.

i. Currently the previous year percentages are 93.80%.

ii. The NRS Solicitations are working.

iii. States are writing UCR Violations.

i. Previous year or reporting year, Registration percent for Brokers—at least 60%.

i. Currently, the previous year percentage is 64.55%.

ii. The NRS Solicitations are working including letters.

iii. The Broker population is: 20,262.

Changes To Consider

j. Consider expanding the previous or reporting year Unregistered Motor Carrier to Tier's 4,5 & 6 and calling them Unregistered Audits.

i. The States and Contractor are using the same audit process to work/close.

k. Consider expanding the Retreat/Inspection Audits to Tier's 4,5 & 6 and adjusting the closed percentage to 100%.

l. Consider limiting the current year FARs Audits to Tier's 4,5 & 6 and adjusting the closed percentage to 100%. States must also close all FARs assigned.

Additional Compliance Initiatives To Consider

m. UCR Violations Audit.

n. Enforcement Efficiency Report Percentages.

The Subcommittee may take action to recommend to the UCR Board one or more of the proposed changes to the compliance initiative requirements applicable to UCR Participating States and to the Annual Audit Report Evaluation Process.

VI. UCR Audit Subcommittee Chair and UCR Audit Subcommittee Vice-Chair

The UCR Audit Subcommittee Chair and UCR Audit Subcommittee Vice-Chair will lead a discussion on options to create, update/expand the UCR definitions. Examples are:

Leasing Companies Examples

Leasing companies as defined for purposes of the UCR—that is, entities that are in the business of leasing or renting motor vehicles without drivers to interstate motor carriers are not required to register with U.S. DOT and obtain a DOT number, if they do not operate any vehicles. Such leasing companies are still subject to the UCR and required to register in Tier 1.

The FMCSA considers a leasing company that makes interstate movements of any of its vehicles from place to place over the highway for its own reasons or for the convenience of a customer, to be a private motor carrier of property that is required to register and obtain a DOT number. Under this scenario, the leasing company will register in the UCR Tier based on the number of commercial motor vehicles listed on its USDOT Profile.

Focused Anomaly Review (FAR) Example

Is defined as or occurs when a motor carrier (MC) under registers (registers and pays in a lower Unified Carrier Registration (UCR) Tier) for a registration year when compared to the number of active International Registration Plan (IRP) registered commercial motor vehicles (CMVs) in its fleet. When this occurs a FAR is generated and assigned to the State.

Retreat Audit Example

Is defined as or occurs when a MC under registers its UCR for a registration year based on the number of VIN specific commercially plated CMVs inspected in interstate commerce. When this occurs a Retreat Audit is generated and assigned to the State.

Hybrid Retreat Example

Occurs when the MCs UCR reported commercially plated CMVs inspected in interstate commerce and its IRP plated CMVs do not match its UCR Tier. When this occurs a hybrid Retreat is generated and assigned to the State and to the MC for an adjustment.

Unregistered Registrant Example

Is defined as or occurs when a motor carrier (MC), Broker, Freight Forwarder (FF) or Leasing Company has an active interstate USDOT number, active federal operating authority or MC number, interstate roadside inspection or crash and has not registered for the UCR.

VII. Update on Retreat Audit Program and Consider Options for the Program During the Renewal—UCR Audit Subcommittee Chair, UCR Audit Subcommittee Vice Chair, DSL Transportation and Seiko Soft Representative

For Discussion and Possible Subcommittee Action

The UCR Audit Subcommittee Chair, UCR Audit Subcommittee Vice Chair, DSL Transportation and Seiko Soft Representative will lead a discussion on the status of the new Retreat Audit Program that utilizes roadside inspection data for an automation driven audit for non-IRP and IRP-plated commercial motor vehicles (CMVs).

At least three choices will be presented for the Subcommittee's consideration when tying the inspection data to the motor carrier's UCR registration/renewal such as:

• Stop the registration/renewal transaction if the motor carrier does not agree with the vehicle count.

• Interrupt the registration/renewal transaction by showing inspections data to the motor carrier and sending the renewal to support for assistance.

• Allow for normal registration/renewal but with the creation of a Retreat Audit.

The Subcommittee may take action to recommend to the UCR Board a UCR Registration Process based on inspection-based data.

VIII. Update the Subcommittee on the recent Monthly Question and Answer Session for State Auditors—UCR Audit Subcommittee Chair and UCR Audit Subcommittee Vice-Chair and Executive Director

Representatives will lead a discussion on the value of and topics for the next scheduled 60-minute virtual question and answer session for UCR state Auditors on September 10, 2024.

IX. Other Business—UCR Audit Subcommittee Chair

The UCR Audit Subcommittee Chair will call for any other items Subcommittee members would like to discuss.

X. Adjournment—UCR Audit Subcommittee Chair

The UCR Audit Subcommittee Chair will adjourn the meeting.

The agenda will be available no later than 5:00 p.m. Eastern time, July 16, 2024 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-16264 Filed 7-19-24; 4:15 pm]

BILLING CODE 4910-YL-P